DEPARTMENT OF THE INTERIOR

Bureau of Land Management

[CO-933-00-1320-EL; C-4275]

Colorado; Notice of Availability of the Record of Decision for Coal Preference Right Lease Application C-4275

ACTION: Pursuant to the regulations at 43 CFR 3430.5-1 and 40 CFR 1505.2, the Bureau of Land Management (BLM) has prepared a Record of Decision (decision) for coal preference right lease application (PRLA) C-4275. Copies of the decision are now available to the public.

SUMMARY: A Record of Decision for coal PRLA C-4275 has been prepared documenting BLM's decision to reject the application. BLM's decision is based on a determination that the Final Showing submitted by the applicants, Phillip A. Jensen and W.K. Miller failed to demonstrate that commercial quantities of coal were discovered on the PRLA within the terms of the prospecting permit. Persons or organizations wishing to obtain copies of the decision may contact the Bureau of Land Management at the address below.

DATES: Copies of the decision are available as of the date of publication of this notice.

FOR FURTHER INFORMATION CONTACT: Copies of the decision are available on request from the Colorado State Office (CO-933), Bureau of Land Management, 2850 Youngfield Street, Lakewood, Colorado 80215, or by calling Karen Purvis at 303-239-3795.

SUPPLEMENTARY INFORMATION: The lease application was originally filed on March 27, 1973. An Initial Showing for the application was accepted as complete on March 28, 1989. An environmental assessment was completed on the PRLA in 1982. As a result of BLM policies based on the amended court order in the case of Natural Resources Defense Council v. Berklund, BLM prepared an Environmental Impact Statement in cooperation with the Office of Surface Mining Reclamation and Enforcement. A Final Showing was requested of the applicant late in 1989 and filed in March of 1990. Additional information to update the Final Showing was requested in August, 1996, with a 90 day submittal period and an extension of 90 days was granted with no response. On August 20, 1999, BLM provided the applicant notice of intent to reject the PRLA and the opportunity to provide additional information. No response was received from the applicant. This decision reflects the results of BLM's analysis of the Final Showing.

Dated: January 18, 2000.
Karen Purvis,
Solid Minerals Team, Resource Services.

[FR Doc. 00-2100 Filed 1-31-00; 8:45 am]

BILLING CODE 4310-84-M